DEPARTMENT OF TRANSPORTATION

Federal Aviation Administration

14 CFR Part 39

[Docket No. FAA-2012-0932; Directorate Identifier 2012-NM-014-AD; Amendment 39-17426; AD 2013-08-09]

RIN 2120-AA64

Airworthiness Directives; The Boeing Company Airplanes

AGENCY: Federal Aviation Administration (FAA), DOT.

ACTION: Final rule.

SUMMARY: We are adopting a new airworthiness directive (AD) for certain The Boeing Company Model 777-200, -200LR, -300, -300ER, and 777F series airplanes. This AD was prompted by a report that during a test of the oxygen system, an operator found that the passenger oxygen masks did not properly flow oxygen, and that a loud noise occurred in the overhead area, which was caused by the flex line separating from the hard line due to a missing clamshell coupler. This AD requires, for certain airplanes, performing a detailed inspection of certain areas of the airplane oxygen system to ensure clamshell couplers are installed and fully latched, and corrective actions if necessary. For all airplanes, this AD requires performing and meeting the requirements of the low pressure leak test. We are issuing this AD to prevent the oxygen system flex line from separating from the hard line, which could cause an oxygen leak and a drop in the oxygen system pressure, resulting in improper flow of oxygen through the passenger masks and injury to passengers if emergency oxygen is needed.

DATES: This AD is effective May 23, 2013.

The Director of the Federal Register approved the incorporation by reference of a certain publication listed in the AD as of May 23, 2013.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Susan Monroe, Aerospace Engineer, Cabin Safety and Environmental Systems Branch, ANM-150S, FAA, Seattle Aircraft Certification Office, 1601 Lind Avenue SW., Renton, WA 98057-3356; phone: 425-917-6457; fax: 425-917-6590; email: susan.l.monroe@faa.gov.

SUPPLEMENTARY INFORMATION:

Discussion

We issued a Notice of Proposed Rulemaking (NPRM) to amend 14 CFR part 39 to include an AD that would apply to the specified products. That NPRM published in the Federal Register on September 11, 2012 (77 FR 55768). That NPRM proposed to require, for certain airplanes, performing a detailed inspection of certain areas of the airplane oxygen system to ensure clamshell couplers are installed and fully latched, and corrective actions if necessary. For all airplanes, that NPRM proposed to require performing and meeting the requirements of the low pressure leak test.

Comments

We gave the public the opportunity to participate in developing this AD. The Boeing Company and Kristopher Charles Kleiner supported this final rule. The following presents the comment received on the NPRM (77 FR 55768, September 11, 2012) and the FAA's response to the comment.

Request Clarification of Note 1 to Paragraph (i) of NPRM (77 FR 55768, September 11, 2012)

Air New Zealand requested clarification of Note 1 to paragraph (i) of the NPRM (77 FR 55768, September 11, 2012). Air New Zealand asked if the FAA intended to state a specific revision for the installation of the clamshell coupler in Subject 35-00-00, Oxygen, of Chapter 35, Oxygen, of Part II, Practices and Procedures, of the Boeing 777 Aircraft Maintenance Manual, Revision 65, dated May 5, 2012, knowing that it will be revised within the time frame of this NPRM. Air New Zealand also asked if an alternative method of compliance (AMOC) will be required if an operator intends to use a later revision of the maintenance manual.

We agree to provide clarification of Note 1 to paragraph (i) of the NPRM (77 FR 55768, September 11, 2012). Note 1 to paragraph (i) of the NPRM is provided as guidance and is not an AD requirement; therefore, approval of an AMOC will not be required for using later revisions of the maintenance manual. Since we issued the NPRM, the aircraft maintenance manual has been revised. We have updated Note 1 to paragraph (i) of this AD with the latest revision. We have changed this AD accordingly.

Conclusion

We reviewed the relevant data, considered the comment received, and determined that air safety and the public interest require adopting the AD with the change described previously—and minor editorial changes. We have determined that these minor changes:

• Are consistent with the intent that was proposed in the NPRM (77 FR 55768, September 11, 2012) for correcting the unsafe condition; and

• Do not add any additional burden upon the public than was already proposed in the NPRM (77 FR 55768, September 11, 2012).

We also determined that these changes will not increase the economic burden on any operator or increase the scope of the AD.

Costs of Compliance

We estimate that this AD affects 6 airplanes of U.S. registry.

We estimate the following costs to comply with this AD:

Estimated Costs
Action | Labor cost | Parts cost | Cost per product | Cost on U.S. operators
Detailed inspection and leak test | 26 work-hours × $85 per hour = $2,210 | $0 | $2,210 | $13,260

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-08-09 The Boeing Company: Amendment 39-17426; Docket No. FAA-2012-0932; Directorate Identifier 2012-NM-014-AD.

(a) Effective Date

This AD is effective May 23, 2013.

(b) Affected ADs

None.

(c) Applicability

This AD applies to The Boeing Company Model 777-200, -200LR, -300, -300ER, and 777F series airplanes; certificated in any category; as identified in Boeing Special Attention Service Bulletin 777-35-0024, dated September 1, 2011.

(d) Subject

Joint Aircraft System Component (JASC)/Air Transport Association (ATA) of America Code 35, Oxygen.

(e) Unsafe Condition

This AD was prompted by a report that during a test of the oxygen system, an operator found that the passenger oxygen masks did not properly flow oxygen and that a loud noise occurred in the overhead area, which was caused by the flex line separating from the hard line due to a missing clamshell coupler. We are issuing this AD to prevent the oxygen system flex line from separating from the hard line, which could cause an oxygen leak and a drop in the oxygen system pressure, resulting in improper flow of oxygen through the passenger masks and injury to passengers if emergency oxygen is needed.

(f) Compliance

Comply with this AD within the compliance times specified, unless already done.

(g) Inspection

Within 36 months after the effective date of this AD, do the applicable actions in paragraph (g)(1) or (g)(2) of this AD.

(1) For Groups 1-6, 8, and 9 airplanes, as identified in Boeing Special Attention Service Bulletin 777-35-0024, dated September 1, 2011: Do a detailed inspection of certain areas of the airplane oxygen system to ensure clamshell couplers are installed and fully latched, and perform and meet the requirements of the low pressure leak test, in accordance with the Accomplishment Instructions of Boeing Special Attention Service Bulletin 777-35-0024, dated September 1, 2011.

(2) For Group 7 airplanes, as identified in Boeing Special Attention Service Bulletin 777-35-0024, dated September 1, 2011: Perform and meet requirements of the low pressure leak test, in accordance with the Accomplishment Instructions of Boeing Special Attention Service Bulletin 777-35-0024, dated September 1, 2011.

(h) Corrective Action if Clamshell Coupler Is Not Fully Latched

If, during any inspection required by paragraph (g) of this AD, any clamshell coupler is not fully latched: Before further flight, latch the clamshell coupler, in accordance with the Accomplishment Instructions of Boeing Special Attention Service Bulletin 777-35-0024, dated September 1, 2011.

(i) Corrective Action if Clamshell Coupler Is Not Installed

If, during any inspection required by paragraph (g) of this AD, any clamshell coupler is not installed: Before further flight, install a clamshell coupler.

Note 1 to paragraph (i) of this AD: Guidance on installation of the clamshell coupler may be found in Subject 35-00-00, Oxygen, of Chapter 35, Oxygen, of Part II, Practices and Procedures, of the Boeing 777 Aircraft Maintenance Manual, Revision 67, dated January 5, 2013.

(j) Alternative Methods of Compliance (AMOCs)

(1) The Manager, Seattle Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(k) Related Information

For more information about this AD, contact Susan Monroe, Aerospace Engineer, Cabin Safety and Environmental Systems Branch, ANM-150S, FAA, Seattle Aircraft Certification Office, 1601 Lind Avenue SW., Renton, WA 98057-3356; phone: 425-917-6457; fax: 425-917-6590; email: susan.l.monroe@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 777-35-0024, dated September 1, 2011.

(ii) Reserved.

(3) For Boeing service information identified in this AD, contact Boeing Commercial Airplanes, Attention: Data & Services Management, P.O. Box 3707, MC 2H-65, Seattle, Washington 98124-2207; telephone 206-544-5000, extension 1; fax 206-766-5680; Internet https://www.myboeingfleet.com.

(4) You may review copies of the referenced service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 5, 2013.
Ali Bahrami,
Manager, Transport Airplane Directorate, Aircraft Certification Service.

[FR Doc. 2013-08907 Filed 4-17-13; 8:45 am]

BILLING CODE 4910-13-P